OFFICE OF MANAGEMENT AND BUDGET

Guidelines for Ensuring and Maximizing the Quality, Objectivity, Utility, and Integrity of Information Disseminated by the Office of Management and Budget

AGENCY: Office of Management and Budget.

ACTION: Notice of guidelines and request for comments.

SUMMARY: The Office of Management and Budget (OMB) is extending the comment period regarding its draft Information Quality Guidelines from June 14, 2002, to July 1, 2002. OMB is also announcing an extension of the date by which agencies have to submit their draft final information quality guidelines to OMB from no later than July 1, 2002, to no later than August 1, 2002. OMB encourages agencies to use thus extra time to provide the public with additional time to comment on their draft guidelines.

DATES: Written comments regarding OMB's draft Information Quality Guidelines are due by July 1, 2002.

ADDRESSES: Please submit comments to Jefferson B. Hill of the Office of Information and Regulatory Affairs, Office of Management and Budget, Washington, DC 20503. Comments can also be e-mailed to informationquality@omb.eop.gov.

FOR FURTHER INFORMATION CONTACT: Jefferson B. Hill, Office of Information and Regulatory Affairs, Office of Management and Budget, Washington, DC 20503. Telephone: (202) 395-3176.

SUPPLEMENTARY INFORMATION: On May 1, 2002 (67 FR 21779), OMB announced it was seeking comments on its draft Information Quality Guidelines by June 14, 2002. OMB is now extending that comment period to July 1, 2002. These Information Quality Guidelines describe OMB's pre-dissemination information quality control and an administrative mechanism for requests for correction of information publicly disseminated by OMB. The draft Information Quality Guidelines are posted on OMB's Web site, http://www.whitehouse.gov/omb/inforeg/index.html.

On January 3, 2002 (67 FR 369), with a correction published on February 22, 2002 (67 FR 8452), OMB published government-wide Guidelines for Ensuring and Maximizing the Quality, Objectivity, Utility, and Integrity of Information Disseminated by Federal Agencies. Paragraph IV.5 of these Guidelines calls upon each agency Ano later than July 1, 2002,” to submit the agency's draft final information quality guidelines to OMB for review regarding the consistency of its guidelines with OMB's January 3 government-wide Guidelines. OMB is extending this deadline to no later than August 1, 2002.

This extension of the July 1 deadline to August 1 provides agencies additional time to seek public comment on their proposed information quality guidelines, and to reconsider their draft guidelines in light of the public comments they do receive.

Dated: June 6, 2002.
John D. Graham,
Administrator, Office of Information and Regulatory Affairs.

[FR Doc. 02-14843 Filed 6-12-02; 8:45 am]

BILLING CODE 3110-01-P